DEPARTMENT OF AGRICULTURE

Forest Service

Del Norte County Resource Advisory Committee: Meeting

AGENCY: Forest Service, USDA.

ACTION: Notice of meeting.

SUMMARY: The Del Norte County Resource Advisory Committee (RAC) will hold a series of virtual meetings (with a call-in option). The committee is authorized under the Secure Rural Schools and Community Self-Determination Act (the Act) and operates in compliance with the Federal Advisory Committee Act (FACA). The purpose of the committee is to improve collaborative relationships and to provide advice and recommendations to the Forest Service concerning projects and funding consistent with Title II of the Act. RAC information can be found at the following website: www.fs.usda.gov/main/srnf/workingtogether/advisorycommittee.

DATES: The following virtual meetings will be held:

• July 20, 2021, 4:00 p.m.-8:00 p.m. Pacific Daylight Time

• July 21, 2021, 4:00 p.m.-8:00 p.m. Pacific Daylight Time

• July 22, 2021, 4:00 p.m.-8:00 p.m. Pacific Daylight Time

All RAC meetings are subject to cancellation. For status of the meeting prior to attendance, please contact the person listed under FOR FURTHER INFORMATION CONTACT.

ADDRESSES: The meeting will be held with virtual attendance only (with call-in option). For virtual meeting information, please contact the person listed under FOR FURTHER INFORMATION CONTACT.

Written comments may be submitted as described under SUPPLEMENTARY INFORMATION. All comments, including names and addresses when provided, are placed in the record and are available for public inspection and copying. The public may inspect comments received at: Gasquet Ranger District, 10600 Highway 199, Gasquet, CA 95543. Please call ahead to facilitate entry into the building.

FOR FURTHER INFORMATION CONTACT: Jeff Marszal, Del Norte County RAC Designated Federal Official (DFO), by phone at (707) 457-3131 or via email at jeffrey.marszal@usda.gov.

Individuals who use telecommunication devices for the hearing-imparired (TDD) may call the Federal Information Relay Service (FIRS) at 1-800-877-8339 between 8:00 a.m. and 8:00 p.m., Eastern Daylight Time, Monday through Friday.

SUPPLEMENTARY INFORMATION: The purpose of the meeting is to:

1. Elect committee chairperson, review FACA regulations, update committee governing documents, review past practices, and determine new process for project proposals;

2. Provide updates regarding the status of Secure Rural Schools Program and Title II funding;

3. Review and recommend existing potential projects eligible for funding; and

4. Solicit new project proposals.

The meetings are open to the public. The agendas will include time for people to make oral statements of three minutes or less. Individuals wishing to make an oral statement should request in writing 7 days before the meeting to be scheduled on the agenda for that particular meeting. Anyone who would like to bring related matters to the attention of the committee may file written statements with the committee staff before or after the meetings. Written comments and requests for time to make oral comments must be sent to Jeff Marszal, Del Norte County RAC DFO, Gasquet Ranger District, 10600 Highway 199, Gasquet, CA 95543; by email to jeffrey.marszal@usda.gov; or via facsimile to (707) 457-3794.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: June 23, 2021.
Cikena Reid,
USDA Committee Management Officer.

[FR Doc. 2021-13793 Filed 6-28-21; 8:45 am]

BILLING CODE 3411-15-P